DEPARTMENT OF HEALTH AND HUMAN SERVICES

National Institutes of Health

National Institute of Diabetes and Digestive and Kidney Diseases; Amended Notice of Meeting

Notice is hereby given of a change in the meeting of the Board of Scientific Counselors, NIDDK, April 19, 2024, 10:00 a.m. to April 20, 2024, 05:00 p.m., National Institutes of Health, building 10, 10 Center Drive, Bethesda, MD 20892 which was published in the Federal Register on November 2, 2023, 88 FR 75294.

The following FRN is being amended to change the meeting format from virtual to in person. The meeting is partially Closed to the public.

Dated: September 30, 2024.
Miguelina Perez,
Program Analyst, Office of Federal Advisory Committee Policy.

[FR Doc. 2024-22892 Filed 10-3-24; 8:45 am]

BILLING CODE 4140-01-P